DEPARTMENT OF COMMERCE

National Oceanic and Atmospheric Administration

50 CFR Part 648

[Docket No. 070817467-8554-02]

RIN 0648-XM40

Magnuson-Stevens Fishery Conservation and Management Act Provisions; Fisheries of the Northeastern United States; Atlantic Sea Scallop Fishery; Closure of the Limited Access General Category Scallop Fishery to Individual Fishing Quota Scallop Vessels

AGENCY: National Marine Fisheries Service (NMFS), National Oceanic and Atmospheric Administration (NOAA), Commerce.

ACTION: Temporary rule; closure.

SUMMARY: NMFS announces the Limited Access General Category (LAGC) Scallop Fishery is closed to individual fishing quota (IFQ) scallop vessels as of 0001 hrs local time, December 31, 2008. This fishery will re-open on March 1, 2009. This action is based on the determination that the annual scallop total allowable catch (TAC) for LAGC IFQ scallop vessels (including vessels issued an IFQ letter of authorization (LOA) to fish under appeal), is projected to be landed. This action is being taken to prevent IFQ scallop vessels from exceeding the 2008 annual TAC, in accordance with the regulations implementing Amendment 11 to the Atlantic Sea Scallop Fishery Management Plan (FMP), enacted by Framework 19 to the FMP, and the Magnuson-Stevens Fishery Conservation and Management Act.

DATES: The closure of the LAGC fishery to all IFQ scallop vessels is effective 0001 hrs local time, December 31, 2008, through February 28, 2009.

FOR FURTHER INFORMATION CONTACT: Cheryl McGarrity, Fishery Management Specialist, (978) 281-9174, fax (978) 281-9135.

SUPPLEMENTARY INFORMATION: Regulations governing fishing activity in the LAGC fishery authorize vessels issued a valid IFQ scallop permit to fish in the LAGC fishery under specific conditions, including a TAC (see 50 CFR 648.59, 648.60, and 648.53(a)(8)(iii)). The TACs were established by the final rule that implemented Framework 19 to the FMP (73 FR 30790 May 29, 2008) and included an annual TAC of 4,352,500 lb (1,974,261 kg) that may be landed by IFQ vessels during the 2008 fishing year, approximately 178,000 lb (80,739 kg) of which was remaining for harvest at the beginning of the fourth quarter. The regulations at § 648.53(a)(8)(iii) require the LAGC fishery to be closed to IFQ vessels once the Northeast Regional Administrator has determined that the TAC is projected to be landed.

Based on dealer reporting and vessel pre-landing reports through Vessel Monitoring Systems (VMS), it is projected that, given current activity levels by IFQ scallop vessels in the area, 4,352,500 lb (1,974,261 kg) will have been landed by December 30, 2008. Therefore, in accordance with the regulations at § 648.53(a)(8)(iii), the LAGC scallop fishery is closed to all general IFQ vessels as of 0001 hr local time December 31, 2008. Accordingly, this closure is in effect for the remainder of the fourth quarter of the 2008 scallop fishing year. IFQ scallop vessels are not allowed to fish for, possess, or retain scallops, or declare, or initiate, a scallop trip following this closure for the remainder of the 2008 fourth quarter, ending on February 28, 2009. The LAGC scallop fishery is scheduled to re-open to IFQ scallop vessels on March 1, 2009.

Classification

This action is required by 50 CFR part 648 and is exempt from review under Executive Order 12866.

This action closes the LAGC scallop fishery to all IFQ scallop vessels until March 1, 2009. The regulations at § 648.53(a)(8)(iii) require such action to ensure that IFQ scallop vessels do not exceed the 2008 annual TAC. The LAGC scallop fishery opened for the fourth quarter of the 2008 fishing year at 0001 hours on December 1, 2008. Data indicating the IFQ scallop fleet has landed all of the 2008 fourth quarter TAC have only recently become available. The Assistant Administrator for Fisheries, NOAA (AA), finds good cause pursuant to 5 U.S.C. 553(b)(B) to waive prior notice and the opportunity for public comment because it would be contrary to the public interest. If implementation of this closure is delayed to solicit prior public comment, the quota for this quarter will be exceeded, thereby undermining the conservation objectives of the FMP. The AA further finds, pursuant to 5 U.S.C 553(d)(3), good cause to waive the thirty (30) day delayed effectiveness period for the reasons stated above.

Authority: 16 U.S.C. 1801 et seq.

Dated: December 23, 2008.
Alan D. Risenhoover,
Director, Office of Sustainable Fisheries, National Marine Fisheries Service.

[FR Doc. E8-31126 Filed 12-24-08; 4:15 pm]

BILLING CODE 3510-22-S